DEPARTMENT OF COMMERCE

National Oceanic and Atmospheric Administration

[I.D. 111605C]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council), its Ecosystems Committee and its Executive Committee will hold a public meeting.

DATES: Tuesday, December 6, through Thursday, December 8, 2005.

ADDRESSES: This meeting will be held at the Trump Plaza Hotel &Casino, Mississippi and the Boardwalk, Atlantic City, NJ, telephone 609-441-6762.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the Council's committees and the Council itself are: the Ecosystems Committee will review written and Public Hearing comments regarding ecosystems based approach to fisheries management; and, review and comment on proposed legislation, i.e., H.R. 2939, the Oceans Conservation, Education and National Strategy for the 21st Century Act. The Council will review actions and associated timelines for Amendments 14 (scup rebuilding plan) and Amendment 15 (comprehensive review of summer flounder, scup and black sea bass) to the Summer Flounder, Scup and Black Sea Bass FMP. The Council will meet jointly with the Atlantic States Marine Fisheries Commission's Summer Flounder, Scup, and Black Sea Bass Board to review and discuss the Monitoring Committee's recommendations on the 2006 recreational management measures for summer flounder, scup, and black sea bass; review and discuss the Advisory Panels' recommendations on management measures for summer flounder, scup, and black sea bass; and, develop and approve management measures for the 2006 recreational fisheries for summer flounder, scup, and black sea bass.

The future system of joint management for the Spiny Dogfish and Monkfish FMPs will be finalized and adopted by the Council. The Executive Committee will review the outcome from the Northeast Region Coordinating Council meeting, the Council Chairs/Executive Directors meeting, and the Congressional Hearing on Council Operations. The Director of the Atlantic Coastal Cooperative Statistics Program will provide a presentation regarding its current data collection program and its future direction. The Council will receive an update on the status of Amendment 9 to the Squid, Mackerel, and Butterfish FMP. The Council will conduct its regular business session to approve minutes, receive reports and address any continuing or new business.

On Tuesday, December 6, concurrent sessions of the Atlantic States Marine Fisheries Commission's Summer Flounder, Scup, and Black Sea Bass Board and the Ecosystems Committee will meet from 1:00 to 3:30 p.m. The Council will convene from 3:30 p.m. to 5:30 p.m.

On Wednesday, December 7, the Council will convene jointly with Atlantic States Marine Fisheries Commission's Summer Flounder, Scup, and Black Sea Bass Board at 8:30 a.m. Recreational management measures for the 2006 summer flounder fishing year will be discussed and adopted from 8:30 a.m. to 11:00 a.m. Recreational management measures for the 2006 scup fishing year will be discussed and adopted from 11:00 a.m. to noon. Fishery Achievement Awards will be presented from 1:00 p.m. to 1:30 p.m. Discussions and adoption of recreational management measures for scup will be continued from 1:30 p.m. to 2:30 p.m. Recreational management measures for the 2006 black sea bass fishing year will be discussed and adopted from 2:30 p.m. to 4:30 p.m. The Council will discuss and finalize its position on joint management of spiny dogfish and monkfish from 4:30 to 5:00 p.m.

On Thursday, December 8, the Executive Committee will meet from 8:00 a.m. to 9:00 a.m. The Council will convene at 9:00 a.m. until approximately 2:00 p.m. to receive third party reports, an update on status of Amendment 9 to the Squid, Mackerel, and Butterfish FMP, presentations, and address any continuing or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

This meeting is physically accessible to people with disabilities. Requests for sign language interpretation or other auxiliary aids should be directed to Jan Saunders at least five days prior to the meeting date.

Dated: November 16, 2005.
Emily Menashes,
Acting Director, Office of Sustainable Fisheries, National Marine Fisheries Service.

[FR Doc. E5-6399 Filed 11-18-05; 8:45 am]

BILLING CODE 3510-22-S